DEPARTMENT OF THE INTERIOR

Bureau of Indian Affairs

[212A2100DD/AAKC001030/A0A501010.999900; OMB Control Number 1076-NEW]

Agency Information Collection Activities; Submission to the Office of Management and Budget; Tribal Enrollment Count

AGENCY: Bureau of Indian Affairs, Interior.

ACTION: Notice of information collection; request for comment.

SUMMARY: In accordance with the Paperwork Reduction Act of 1995, we, the Bureau of Indian Affairs (BIA), are requesting the Office of Management and Budget (OMB) to conduct an emergency review of a new information collection.

DATES: Interested persons are invited to submit comments on or before April 30, 2021.

ADDRESSES: Send written comments on this information collection request (ICR) by mail to Jeanette Hanna, Deputy Bureau Director of the Office of Indian Services, jeanette.hanna@bia.gov. Please reference OMB Control Number 1076-NEW in the subject line of your comments.

FOR FURTHER INFORMATION CONTACT: To request additional information about this ICR, contact Jeanette Hanna by email at jeanette.hanna@bia.gov, or by telephone at (202) 208-2874. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Enrollment data is an important source of information which allows the Indian Affairs and other Federal agencies to equitably distribute resources because it is a quantifiable representation of a Tribe's population. Different population sizes generally require different levels of services and resources. BIA must collect this information immediately to ensure effective, accurate, and timely distribution of assistance to respond to the coronavirus pandemic in Indian Country, as provided in the American Rescue Plan which was recently signed into law. Specifically, enrollment data will be a primary data source to inform Indian Affairs' allocation of $900 million in assistance to Tribal nations, as well as $19 billion to be distributed by the Department of the Treasury. Timely collection is especially critical as Treasury must allocate their funding within 60 days of enactment of the American Rescue Plan.

Title of Collection: Tribal Enrollment Count.

OMB Control Number: 1076- NEW.

Form Number: None.

Type of Review: New information collection.

Respondents/Affected Public: Indian Tribes.

Total Estimated Number of Annual Respondents: 574 per year.

Total Estimated Number of Annual Responses: 574 per year.

Estimated Completion Time per Response: 1 hour.

Total Estimated Number of Annual Burden Hours: 574 hours.

Respondent's Obligation: Voluntary.

Frequency of Collection: Once.

Total Estimated Annual Nonhour Burden Cost: $0.

Additional Information: An emergency clearance approval for this information collection is due to the following conditions: Under the current unprecedented national health emergency, Congress and the President have come together by passing the American Rescue Plan to offer relief to the public and, relevant to this information collection, to Tribes affected by the COVID-19 pandemic. BIA must collect this information immediately to ensure effective, accurate, and timely distribution of assistance to respond to the coronavirus pandemic in Indian Country, as provided in the American Rescue Plan.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2021-06593 Filed 3-30-21; 8:45 am]

BILLING CODE 4337-15-P